DEPARTMENT OF LABOR

Employee Benefits Security Administration

Amendment to Proposed Extension of Information Collection Request Submitted for Public Comment; Defined Benefit Plan Annual Funding Notice

ACTION: Notice.

SUMMARY: In accordance with the Paperwork Reduction Act of 1995 (PRA 95) (44 U.S.C. 3506(c)(2)(A)), the Department of Labor (the Department) conducts a preclearance consultation program so that the general public and other federal agencies can comment on proposed and continuing collections of information. This program helps to ensure that the data the Department gathers arrive in the desired format, that the reporting burden on the public (time and financial resources) is minimized, that the public understands the collection instruments, and that the Department can accurately assess the impact of collection requirements on respondents.

On November 21, 2008, the Department published a Notice in the Federal Register soliciting comments on its proposed extension of the information collection provisions of regulations pertaining to section 101(f) of the Employee Retirement Income Security Act of 1974 (ERISA). As discussed more fully below, the Department is hereby amending the notice to provide the public with an additional 30-day period to comment on the revisions to the information collection contained in Field Assistance Bulletin 2009-1, which was issued by the Department on February 10, 2009.

DATES: Written comments must be submitted to the office shown in the addresses section on or before March 19, 2009.

ADDRESSES: Interested parties are invited to submit written comments regarding the information collection request and burden estimates to: G. Christopher Cosby, Office of Policy and Research, U.S. Department of Labor, Employee Benefits Security Administration, 200 Constitution Avenue, NW., Room N-5718, Washington, DC 20210. Telephone: (202) 693-8410; Fax: (202) 219-4745. These are not toll-free numbers. Comments may also be submitted electronically to the following Internet e-mail address: ebsa.opr@dol.gov.

SUPPLEMENTARY INFORMATION:

I. Background

Section 101(f) of the Employee Retirement Income Security Act of 1974 (ERISA) sets forth requirements applicable to furnishing annual funding notices. Before the enactment of the Pension Protection Act of 2006 (PPA), section 101(f) applied only to multiemployer defined benefit plans. The Department issued a final implementing regulation under this provision on January 11, 2006 (71 FR 1904), which is codified at 29 CFR 2520.101-4. The Information Collection Request (ICR) relating to the regulation was approved on March 17, 2005, under OMB Control Number 1210-0126. The ICR is scheduled to expire on March 31, 2009. The Department published a 60-day public comment Notice (the Notice) in the Federal Register on November 21, 2008,¹ informing the public of its intension to extend the ICR and requesting public comments.

¹ 73 FR 70677.

Section 501(a) of the PPA amended section 101(f) of ERISA and made significant changes to the annual funding notice requirements. These amendments require administrators of all defined benefit plans that are subject to title IV of ERISA, not only multiemployer plans, to provide an annual funding notice to the Pension Benefit Guaranty Corporation (PBGC), to each plan participant and beneficiary, to each labor organization representing such participants or beneficiaries, and, in the case of a multiemployer plan, to each employer that has an obligation to contribute to the plan. An annual funding notice must include, among other things, the plan's funding percentage, a statement of the value of the plan's assets and liabilities and a description of how the plan's assets are invested as of specific dates, and a description of the benefits under the plan that are eligible to be guaranteed by the PBGC. The current ICR does not take these amendments into account, and the Department had not issued regulations or other guidance concerning compliance with ERISA section 101(f) as amended by the PPA when the Notice was published.

On February 10, 2009, the Department issued Field Assistance Bulletin (FAB) 2009-1, which provides guidance to the Employee Benefits Security Administration's national and regional offices concerning good faith compliance with the annual funding notice requirements as amended by the PPA and model notices plan administrators may use to satisfy the annual funding notice content requirements. The FAB provides that pending further guidance, the Department will, as a matter of enforcement policy, treat a plan administrator as satisfying the requirements of section 101(f), if the administrator complies with the guidance contained in the FAB and has acted in accordance with a good faith, reasonable interpretation of those requirements with respect to matters not specifically addressed in the FAB.

The FAB revises the ICR under OMB Control Number 1210-0126 to take into account the PPA amendments; therefore, the Department is hereby amending the Notice to provide the public with an additional 30 days to comment on the ICR as revised by the FAB.

II. Desired Focus of Comments

The Department is particularly interested in comments that:

• Evaluate whether the collection of information contained in the FAB is necessary for the proper performance of the functions of the agency, including whether the information will have practical utility;

• Enhance the quality, utility, and clarity of the information to be collected;

• Evaluate the accuracy of the agency's estimate of the burden of the collection of information, including the validity of the methodology and assumptions used;

• Minimize the burden of the collection of information on those who are to respond, including through the use of appropriate automated, electronic, mechanical, or other technological collection techniques or other forms of information technology, e.g., permitting electronic submission of responses.

III. Current Actions

The Department intends to request a revision of the currently approved ICR for the Multiemployer Plan Annual Funding Notice ² under ERISA section 101(f) and 29 CFR 2520.101-4. The ICR has been revised to reflect amendments made by the Pension Protection Act of 2006 and a related FAB issued by the Department. The following provides the current burden estimates of the revised ICR:

² Please note that the title of the ICR will be changed to “Defined Benefit Plan Annual Funding Notice” as part of the revision.

Type of Review: Revision of a currently approved collection.

Agency: Employee Benefits Security Administration, Department of Labor.

Title: Defined Benefit Plan Annual Funding Notice.

OMB Number: 1210-0126.

Frequency: Annually.

Affected Public: Individuals or households; business or other for-profit institutions; not-for-profit institutions.

Total Respondents: 30,300.

Total Responses: 44,447,000.

Estimated Total Burden Hours: 1,025,000 (first year); 979,000 (subsequent years).

Estimated Annual Burden Cost: $32,812,000 (first year); $28,473,000 (subsequent years).

Comments submitted in response to this notice will be summarized and/or included in the request for OMB approval of the ICR. They also will become a matter of public record.

Dated: February 11, 2009.
Joseph S. Piacentini,
Director, Office of Policy and Research, Employee Benefits Security Administration.

[FR Doc. E9-3347 Filed 2-13-09; 8:45 am]

BILLING CODE 4510-29-P